ENVIRONMENTAL PROTECTION AGENCY

[EPA-HQ-OPP-2016-0463; FRL-9964-60-OEI]

Information Collection Request Submitted to OMB for Review and Approval; Comment Request; Pesticide Registration Fees Program

AGENCY: Environmental Protection Agency (EPA).

ACTION: Notice.

SUMMARY: EPA has submitted the following information collection request (ICR) to the Office of Management and Budget (OMB) for review and approval in accordance with the Paperwork Reduction Act (PRA): “Pesticide Registration Fees Program” and identified by EPA ICR No. 2330.03 and OMB Control No. 2070-0179. The ICR, which is available in the docket along with other related materials, provides a detailed explanation of the collection activities and the burden estimate that is only briefly summarized in this document. EPA did not receive any comments in response to the previously provided public review opportunity issued in the Federal Register on September 26, 2016 (81 FR 66012). With this submission, EPA is providing an additional 30 days for public review.

DATES: Comments must be received on or before September 8, 2017.

ADDRESSES: Submit your comments, identified by docket identification (ID) number EPA-HQ-OPP-2016-0463, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Cameo Smoot, Field and Regulatory Affairs Division. (7506P), Office of Pesticide Programs, Environmental Protection Agency, 1200 Pennsylvania Ave. NW., Washington, DC 20460-0001; telephone number: (703) 305-5454; email address: smoot.cameo@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR Status: OMB approval for this ICR expired on July 1, 2017 due to administrative error. This action is a request to reinstate OMB approval for the information collection activities outlined in this document. Under OMB regulations, the Agency may continue to conduct or sponsor the collection of information while this submission is pending at OMB. Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This ICR covers the paperwork burden hours and costs associated with the information collection activities under the pesticide registration fee programs implemented through EPA's Office of Pesticide Programs. Pesticide registrants are required by statute to pay an annual registration maintenance fee for all products registered under Section 3 and Section 24(c) of the Federal Insecticide, Fungicide and Rodenticide Act (FIFRA). In addition, the Pesticide Registration Improvement Act (PRIA) amended FIFRA in 2004 to create a registration service fee system for applications for specific pesticide registration, amended registration, and associated tolerance actions (Section 33). This mandatory collection specifically covers the activities related to the annual registration maintenance fees, the registration service fees and the burden associated with the submission of requests for fees to be waived.

Respondents/Affected Entities: Entities potentially affected by this ICR are pesticide and other agricultural chemical manufacturers, other basic inorganic chemical manufacturers, other basic organic chemical manufacturers, and regulators of agricultural marketing commodities.

Respondent's Obligation To Respond: This information collection is mandatory under FIFRA sections 4(i)(5) and 33.

Estimated Total Number of Potential Respondents: 1,471

Frequency of Response: Annual and on occasion.

Estimated Total Burden: Ranges from 1,681 to 6,840 hours per year depending on the program. Burden is defined at 5 CFR 1320.3(b).

Estimated Total Costs: $63,971 (per year). There are no annualized capital investment or maintenance and operational costs.

Changes in the Estimates: The total annual burden for respondents associated with pesticide product registration maintenance fee is 1,681 hours, a decrease from 1,993 hours as previously reported in the last ICR. The reason for the decrease was a slight refinement in the estimate per response from 1.14 hours to 1.13 hours and a reduction in the number responses from 1,744 to 1,471. Costs increased since the last renewal because of labor cost increases. The total estimated annual respondent burden for the pesticide registration service fee waivers information collection has increased about 15% from 5,914 hours in the existing ICR to 6,840 hours for this renewal, due to the increase of respondent's usage of the newer waiver provisions allowed under the law.

Authority: 44 U.S.C. 3501 et seq.

Courtney Kerwin,
Director, Regulatory Support Division.

[FR Doc. 2017-16782 Filed 8-8-17; 8:45 am]

BILLING CODE 6560-50-P